DEPARTMENT OF EDUCATION

[Docket No.: ED-2025-SCC-0448]

Agency Information Collection Activities; Comment Request; Prison Education Program Accreditation Requirements

AGENCY: Office of Postsecondary Education (OPE), Department of Education (ED).

ACTION: Notice.

SUMMARY: In accordance with the Paperwork Reduction Act (PRA) of 1995, the Department is proposing a revision of a currently approved information collection request (ICR).

DATES: Interested persons are invited to submit comments on or before October 20, 2025.

ADDRESSES: To access and review all the documents related to the information collection listed in this notice, please use http://www.regulations.gov by searching the Docket ID number ED-2025-SCC-0448. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Office of Postsecondary Education, Office of Policy, Planning and Innovation, U.S. Department of Education, 400 Maryland Ave SW, LBJ, Room 5C173, Washington, DC 20202-1200.

FOR FURTHER INFORMATION CONTACT: For specific questions related to collection activities, please contact Amy Wilson, 202-987-1318.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Prison Education Program Accreditation Requirements.

OMB Control Number: 1840-0863.

Type of Review: A revision of a currently approved ICR.

Respondents/Affected Public: Private Sector.

Total Estimated Number of Annual Responses: 21.

Total Estimated Number of Annual Burden Hours: 1,218.

Abstract: The Secretary establishes regulations for Federal Pell Grants (Pell Grants or Pell) for Prison Education Programs (PEPs), to implement the statutory requirements in the Consolidated Appropriations Act, 2021, that amend the Higher Education Act of 1965, as amended (HEA), to establish Pell Grant eligibility for a confined or incarcerated individual enrolled in a PEP. These regulations are a result of negotiated rulemaking and added new title IV regulations to especially in Subpart P of 34 CFR 668. The Consolidated Appropriations Act, 2021 added section 484(t) to the HEA to formally establish Pell Grant eligibility for confined or incarcerated individuals, as long as they are enrolled in a PEP as defined under the HEA. The regulations implement the statutory requirements allowing access to Federal Pell Grants for individuals who are confined or incarcerated when enrolled in programs that meet necessary standards.

This collection established the burden under regulations at 34 CFR 668.237—Accreditation requirements. These regulations prescribe program evaluation at the first two additional Prison Education Program (PEP) locations of a participating institution of higher education to ensure institutional ability to offer and implement the PEP in accordance with the accrediting agency's standards. The regulations require the accrediting agency to conduct a site visit no later than one year after the institution has initiated a PEP at its first two additional locations at correctional facilities. Additionally, the regulations require accrediting agencies to review the methodology used by an institution in determining the PEP meets the same standards for substantially similar non-PEP programs offered at the institution.

Ross Santy,
Chief Data Officer, Office of Planning, Evaluation and Policy Development.

[FR Doc. 2025-15780 Filed 8-18-25; 8:45 am]

BILLING CODE 4000-01-P